DEPARTMENT OF COMMERCE

United States Patent and Trademark Office

Proposed Collection; Comment Request

ACTION: Notice.

SUMMARY: The United States Patent and Trademark Office (USPTO), as part of its continuing effort to reduce paperwork and respondent burden, invites the general public and other Federal agencies to take this opportunity to comment on a continuing information collection, as required by the Paperwork Reduction Act of 1995, Public Law 104-13 (44 U.S.C. 3506(c)(2)(A)).

DATES: Written comments must be submitted on or before November 3, 2014.

ADDRESSES: You may submit comments by any of the following methods:

• Email: InformationCollection@uspto.gov. Include “0651-0035 comment” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to Raul Tamayo, Senior Legal Advisor, Office of Patent Legal Administration, United States Patent and Trademark Office, P.O. Box 1450, Alexandria, VA 22313-1450; by telephone at 571-272-7728; or by email to Raul.Tamayo@uspto.gov.

SUPPLEMENTARY INFORMATION:

I. Abstract

This information collection includes the information necessary to submit a request to grant or revoke power of attorney for an application, patent, or reexamination proceeding, and for a registered practitioner to withdraw as attorney or agent of record. This collection also includes the information necessary to change the correspondence address for an application, patent, or reexamination proceeding, to request a Customer Number and manage the correspondence address and list of practitioners associated with a Customer Number, and to designate or change the correspondence address or fee address for one or more patents or applications by using a Customer Number.

Under 35 U.S.C. 2 and 37 CFR 1.31-1.36, the applicant for patent or the assignee of the entire interest of the applicant (for an application filed before September 16, 2012, or for a patent which issued from an application filed before September 16, 2012), or the applicant for patent or the patent owner (for an application filed on or after September 16, 2012, or for a patent which issued from an application filed on or after September 16, 2012), may grant power of attorney to one or more joint inventors or a person who is registered to practice before the USPTO to act for them in an application or a patent. A power of attorney may also be revoked, and a registered practitioner may also withdraw as attorney or agent of record under 37 CFR 1.36. The rules of practice (37 CFR 1.33) also provide for a practitioner of record (a practitioner not of record may do so if named in the transmittal papers accompanying the original application and if an oath or declaration by any of the inventors has yet to be filed), all of the applicants, or an assignee (for an application filed before September 16, 2012), or a practitioner of record (a practitioner not of record who acts in a representative capacity may do so if named in the application transmittal papers and if any power of attorney has yet to be appointed) or the applicant (for an application filed on or after September 16, 2012), to supply a correspondence address and daytime telephone number for receiving notices, official letters, and other communications from the USPTO. The USPTO's Customer Number practice permits applicants, patent owners, assignees, and practitioners of record to change the correspondence address of a patent application or patent, or the representatives of record for a number of patents or applications with one change request instead of filing separate requests for each patent or application. Customers may request a Customer Number from the USPTO and associate this Customer Number with a correspondence address or a list of registered practitioners. Any changes to the address or practitioner information associated with a Customer Number will be applied to all patents and applications associated with said Customer Number.

The Customer Number practice is optional, in that changes of correspondence address or power of attorney may be filed separately for each patent or application without using a Customer Number. However, a Customer Number associated with the correspondence address for a patent application is required in order to access private information about the application using the Patent Application Information Retrieval (PAIR) system, which is available through the USPTO Web site. The PAIR system gives authorized individuals secure online access to application status information, but only for patent applications that are linked to a Customer Number. Customer Numbers may be associated with U.S. patent applications as well as international Patent Cooperation Treaty (PCT) applications. The use of a Customer Number is also required in order to grant power of attorney to more than ten practitioners or to establish a separate “fee address” for maintenance fee purposes that is different from the correspondence address for a patent or application.

Customers may use a Customer Number Upload Spreadsheet to designate or change the correspondence address or fee address for a list of patents or applications by associating them with a Customer Number. The Customer Number Upload Spreadsheet may not be used to change the power of attorney for patents or applications. Customers may download a Microsoft Excel template with instructions from the USPTO Web site to assist them in preparing the spreadsheet in the proper format.

II. Method of Collection

By mail, facsimile, hand delivery, or electronically to the USPTO.

III. Data

OMB Number: 0651-0035.

Form Number(s): PTO/AIA/80/81/81B/82A/82B/122/123, PTO/SB/80/81/81A/81B/81C/83/84/124/125, and PTO-2248.

Type of Review: Revision of a currently approved collection.

Affected Public: Individuals or households; businesses or other for-profits; and not-for-profit institutions.

Estimated Number of Respondents: 560,595 responses per year.

Estimated Time per Response: The USPTO estimates that it will take the public approximately 3 minutes (0.05 hours) to 1.5 hours to submit the information in this collection, including the time to gather the necessary information, prepare the appropriate form or document, and submit the completed request to the USPTO.

Estimated Total Annual Respondent Burden Hours: 31,509 hours.

Estimated Total Annual Respondent Cost Burden: $3,986,114.75. The USPTO expects that Requests for Withdrawal as Attorney or Agent and the two petitions in this collection will be prepared by attorneys, while the other items in this collection will be prepared by paraprofessionals. Using the professional rate of $389 per hour for attorneys in private firms, the USPTO estimates that the respondent cost burden for submitting the withdrawal requests and the petitions will be $70,020 per year. Using the paraprofessional rate of $125 per hour, the USPTO estimates that the respondent cost burden for submitting the other items in this collection will be $3,916,094 per year.

Item | Estimated time for response (minutes) | Estimated annual responses | Estimated annual burden hours
1. Power of Attorney to Prosecute Applications Before the USPTO (PTO/AIA/80 and PTO/SB/80) | 3 | 4,000 | 200
2. Power of Attorney or Revocation of Power of Attorney with a New Power of Attorney and Change of Correspondence Address (PTO/AIA/81/82A/82B and PTO/SB/81) | 3 | 400,000 | 20,000
3. Patent—Power of Attorney or Revocation of Power of Attorney with a New Power of Attorney and Change of Correspondence Address (PTO/SB/81A) | 3 | 1,000 | 50
4. Reexamination—Patent Owner Power of Attorney or Revocation of Power of Attorney with a New Power of Attorney and Change of Correspondence Address (PTO/AIA/81B and PTO/SB/81B) | 3 | 300 | 15
5. Reexamination—Third Party Requester Power of Attorney or Revocation of Power of Attorney with a New Power of Attorney and Change of Correspondence Address (PTO/SB/81C) | 3 | 75 | 3.75
6. Request for Withdrawal as Attorney or Agent and Change of Correspondence Address (PTO/SB/83) | 12 | 800 | 160
7. Authorization to Act in a Representative Capacity (PTO/SB/84) | 3 | 1,000 | 50
8. Petition Under 37 CFR 1.36(a) to Revoke Power of Attorney by Fewer than All the Applicants | 60 | 10 | 10
9. Petition to Waive 37 CFR 1.32(b)(4) and Grant Power of Attorney by Fewer than All the Applicants | 60 | 10 | 10
10. Change of Correspondence Address for Application or Patent (PTO/AIA/122/123 and PTO/SB/122/123) | 3 | 140,000 | 7,000
11. Patent Owner Change of Correspondence Address—Reexamination Proceeding (PTO/SB/123A) | 3 | 100 | 5
12. Third Party Requester Change of Correspondence Address—Reexamination Proceeding (PTO/SB/123B) | 3 | 100 | 5
13. Request for Customer Number Data Change (PTO/SB/124) | 12 | 2,000 | 400
14. Request for Customer Number (PTO/SB/125) | 12 | 9,000 | 1,800
15. Customer Number Upload Spreadsheet | 90 | 1,000 | 1,500
16. Request to Update a PCT Application with a Customer Number (PTO-2248) | 15 | 1,200 | 300
Totals |  | 560,595 | 31,509

Estimated Total Annual Non-hour Respondent Cost Burden: $26,094.04. There are no capital start-up, maintenance, or recordkeeping costs associated with this information collection. However, this collection does have annual (non-hour) cost burden in the form of filing fees (for the two petitions in the collection) and postage costs.

Specifically, the only items in this collection with associated filing fees are the following two petitions:

• Petition Under 37 CFR 1.36(a) to Revoke Power of Attorney by Fewer than All the Applicants.

• Petition to Waive 37 CFR 1.32(b)(4) and Grant Power of Attorney by Fewer than All the Applicants.

37 CFR 1.17(f) proscribes the filing fees for these items as $400 for large entity, $200 for small entity, and $100 for micro entity. The USPTO estimates that 25% of all fees are paid by small entities and that 25% of all small entities are micro entities. As the USPTO estimates 10 responses for the Petition Under 37 CFR 1.36(a) to Revoke Power of Attorney by Fewer than All the Applicants the overall yearly cost is calculated at $3,437.50. Additionally, the USPTO estimates 10 responses for the Petition to Waive 37 CFR 1.32(b)(4) and Grant Power of Attorney by Fewer than All the Applicants (37 CFR 1.17(f), a yearly cost calculated at $3,437.50. The USPTO estimates that the total filing fees for this collection will be $6,875 per year.

The public may incur postage costs when submitting the information in this collection to the USPTO by mail. The USPTO estimates that approximately 3% (16,818 items) of the 560,615 items will be submitted to the USPTO by mail. Due to the unique materials, including a diskette or CD and cover letter, required for Customer Number Upload Spreadsheet submissions, the USPTO estimates that the average first-class postage cost for the 1,000 spreadsheet submissions will be $2.73; at a total cost of $2,730. The reminder of the mailed items (15,818) will be sent by first-class postage at a rate of $1.42 with an estimated cost of $22,461. Therefore, the total estimated postage cost for this collection is approximately $25,191 per year.

The total (non-hour) respondent cost burden for this collection in the form of filing fees and postage costs is estimated to be $32,066 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: August 27, 2014.
Marcie Lovett,
Records Management Division Director, USPTO, Office of the Chief Information Officer, United States Patent and Trademark Office.

[FR Doc. 2014-21039 Filed 9-3-14; 8:45 am]

BILLING CODE 3510-16-P